SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before February 13, 2024.

ADDRESSES: Send all comments to Pamela Beavers, Area Director, Government Contracting Area IV, Office of Government Contracting, Small Business Administration, Washington, DC 20416.

FOR FURTHER INFORMATION CONTACT: Pamela Beavers, Area Director, Government Contracting IV, Office of Government Contracting 312-353-7381, pamela.beavers@sba.gov, or Curtis B. Rich, A, 202-205-7030, Agency Clearance Officer curtis.rich@sba.gov.

SUPPLEMENTARY INFORMATION: A small business determined to be non-responsible for award of a specific prime Government contract by a Government contracting office has the right to appeal that decision through the Small Business Administration (SBA). The information contained on this form, as well as, other information developed by SBA, is used in determining whether the decision by the Contracting Officer should be overturned.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0225.

(1) Title: Small Business Administration Application for Certificate of Competency.

Description of Respondents: Small Businesses.

Form Number: SBA Form 1531.

Total Estimated Annual Responses: 300.

Total Estimated Annual Hour Burden: 2,400.

Curtis Rich,
Agency Clearance Officer.

[FR Doc. 2023-27668 Filed 12-15-23; 8:45 am]

BILLING CODE 8026-09-P